DEPARTMENT OF TRANSPORTATION

Federal Aviation Administration

14 CFR Part 39

[Docket No. FAA-2008-1326; Directorate Identifier 2008-NM-141-AD]

RIN 2120-AA64

Airworthiness Directives; Boeing Model 747 Airplanes; and Boeing Model 757-200, -200PF, and -300 Series Airplanes

AGENCY: Federal Aviation Administration (FAA), DOT.

ACTION: Notice of proposed rulemaking (NPRM).

SUMMARY: We propose to adopt a new airworthiness directive (AD) for certain Boeing Model 747 series airplanes and certain Boeing Model 757-200, -200PF, and -300 series airplanes. This proposed AD would require replacing the control switches of the forward, aft, and nose cargo doors of Model 747 airplanes; and would require replacing the control switches of cargo doors 1 and 2 of Model 757 airplanes. This proposed AD results from reports of problems associated with the uncommanded operation of cargo doors. We are proposing this AD to prevent injuries to persons and damage to the airplane and equipment.

DATES: We must receive comments on this proposed AD by February 6, 2009.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

For service information identified in this AD, contact Boeing Commercial Airplanes, P.O. Box 3707, Seattle, Washington 98124-2207; fax 206-766-5682; e-mail DDCS@boeing.com; Internet https://www.myboeingfleet.com. You may review copies of the referenced service information at the FAA, Transport Airplane Directorate, 1601 Lind Avenue, SW., Renton, Washington. For information on the availability of this material at the FAA, call 425-227-1221 or 425-227-1152.

Examining the AD Docket

You may examine the AD docket on the Internet at http://www.regulations.gov; or in person at the Docket Management Facility between 9 a.m. and 5 p.m., Monday through Friday, except Federal holidays. The AD docket contains this proposed AD, the regulatory evaluation, any comments received, and other information. The street address for the Docket Office (telephone 800-647-5527) is in the ADDRESSES section. Comments will be available in the AD docket shortly after receipt.

FOR FURTHER INFORMATION CONTACT: Patrick Gillespie, Aerospace Engineer, Cabin Safety and Environmental Systems Branch, ANM-150S, FAA, Seattle Aircraft Certification Office, 1601 Lind Avenue, SW., Renton, Washington 98057-3356; telephone (425) 917-6429; fax (425) 917-6590.

SUPPLEMENTARY INFORMATION:

Comments Invited

We invite you to send any written relevant data, views, or arguments about this proposed AD. Send your comments to an address listed under the ADDRESSES section. Include “Docket No. FAA-2008-1326; Directorate Identifier 2008-NM-141-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

We received several reports of problems associated with the uncommanded operation of the forward, aft, and nose cargo doors of Boeing Model 747 airplanes that had accumulated between 9,390 and 22,529 total flight cycles; and cargo doors 1 and 2 of Boeing Model 757 airplanes that had accumulated between 4,300 and 30,000 total flight cycles. Tests of the cargo door control switches have shown that the control switches remained in the closed position after they were released, which caused the cargo doors to continue moving. The cause of the switch failure is related to the rated switch operation life cycle. This condition, if not corrected, could result in injuries to persons and damage to the airplane and equipment.

Relevant Service Information

We have reviewed Boeing Special Attention Service Bulletin 747-52-2286, dated September 28, 2007 (for Model 747 airplanes). This service bulletin describes procedures for replacing the control switches of the forward, aft, and nose cargo doors with new control switches.

We have also reviewed Boeing Special Attention Service Bulletin 757-52-0090, dated September 21, 2007 (for Model 757 airplanes). This service bulletin describes procedures for replacing the control switches of cargo doors 1 and 2 with new control switches.

Accomplishing the actions specified in the service information is intended to adequately address the unsafe condition.

FAA's Determination and Requirements of This Proposed AD

We are proposing this AD because we evaluated all relevant information and determined the unsafe condition described previously is likely to exist or develop in other products of these same type designs. This proposed AD would require accomplishing the actions specified in the service information described previously.

Costs of Compliance

We estimate that this proposed AD would affect 765 airplanes of U.S. registry. We also estimate that it would take about 2 to 3 work-hours per product to comply with this proposed AD. The average labor rate is $80 per work-hour. Required parts would cost about $130 to $195 per airplane. Based on these figures, we estimate the cost of this proposed AD to U.S. operators up to $332,775 fleet cost, or between $290 and $435 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866,

2. Is not a “significant rule” under the DOT Regulatory Policies and Procedures (44 FR 11034, February 26, 1979), and

3. Will not have a significant economic impact, positive or negative, on a substantial number of small entities under the criteria of the Regulatory Flexibility Act.

You can find our regulatory evaluation and the estimated costs of compliance in the AD Docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

Boeing: Docket No. FAA-2008-1326; Directorate Identifier 2008-NM-141-AD.

Comments Due Date

(a) We must receive comments by February 6, 2009.

Affected ADs

(b) None.

Applicability

(c) This AD applies to Boeing Model 747-100, 747-100B, 747-100B SUD, 747-200B, 747-200C, 747-200F, 747-300, 747-400, 747-400D, 747-400F, 747SR, and 747SP series airplanes, certificated in any category, as identified in Boeing Special Attention Service Bulletin 747-52-2286, dated September 28, 2007; and Boeing Model 757-200, -200PF, and -300 series airplanes, certificated in any category, as identified in Boeing Special Attention Service Bulletin 757-52-0090, dated September 21, 2007.

Unsafe Condition

(d) This AD results from reports of problems associated with the uncommanded operation of cargo doors. We are issuing this AD to prevent injuries to persons and damage to the airplane and equipment.

Compliance

(e) Comply with this AD within the compliance times specified, unless already done.

Replacement

(f) Within 24 months after the effective date of this AD, replace the control switches as specified in paragraph (f)(1) or (f)(2) of this AD, as applicable. Repeat the replacements thereafter at intervals not to exceed 6 years.

(1) For Model 747 airplanes: Replace the control switches of the forward, aft, and nose cargo doors in accordance with the Accomplishment Instructions of Boeing Special Attention Service Bulletin 747-52-2286, dated September 28, 2007.

(2) For Model 757 airplanes: Replace the control switches of cargo doors 1 and 2 in accordance with the Accomplishment Instructions of Boeing Special Attention Service Bulletin 757-52-0090, dated September 21, 2007.

Alternative Methods of Compliance (AMOCs)

(g)(1) The Manager, Seattle Aircraft Certification Office (ACO), FAA, ATTN: Patrick Gillespie, Aerospace Engineer, Cabin Safety and Environmental Systems Branch, ANM-150S, FAA, Seattle ACO, 1601 Lind Avenue, SW., Renton, Washington 98057-3356; telephone (425) 917-6429; fax (425) 917-6590; has the authority to approve AMOCs for this AD, if requested using the procedures found in 14 CFR 39.19.

(2) To request a different method of compliance or a different compliance time for this AD, follow the procedures in 14 CFR 39.19. Before using any approved AMOC on any airplane to which the AMOC applies, notify your appropriate principal inspector (PI) in the FAA Flight Standards District Office (FSDO), or lacking a PI, your local FSDO.

Issued in Renton, Washington, on December 12, 2008.
Michael J. Kaszycki,
Acting Manager, Transport Airplane Directorate, Aircraft Certification Service.

[FR Doc. E8-30481 Filed 12-22-08; 8:45 am]

BILLING CODE 4910-13-P